DEPARTMENT OF ENERGY

Federal Energy Regulatory Commission

Notice of Intent To File Application for a New License

August 5, 2002.

Take notice that the following notice of intent has been filed with the Commission and is available for public inspection:

a. Type of filing: Notice of Intent to File an Application for New License.

b. Project No: 2545.

c. Date filed: July 29, 2002.

d. Submitted By: Avista Corporation.

e. Name of Project: Spokane River Hydroelectric Project.

f. Location: The project consists of five developments located on Spokane River in eastern Washington and north Idaho.

g. Filed Pursuant to: Section 15 of the Federal Power Act, 18 CFR 16.6.

h. Pursuant to Section 16.19 of the Commission's regulations, the licensee is required to make available the information described in Section 16.7 of the regulations. Such information is available from Debbie Biggs, Avista Utilities, 1411 E. Mission Ave., Spokane, Washington 99202, 509-495-2858.

I. FERC Contact: Alan Mitchnick, 202-219-2826. Alan Mitchnick@Ferc.Gov.

j. Expiration Date of Current License: July 31, 2007.

k. Project Description: The five developments includes a dam or dams (where multiple river channels are involved), an operating reservoir, a powerhouse, and various appurtenant structures and components. Total installed capacity of the five developments is 137 megawatts.

l. The licensee states its unequivocal intent to submit an application for a new license for Project No. 2545. Pursuant to 18 CFR 16.9(b)(1) each application for a new license and any competing license applications must be filed with the Commission at least 24 months prior to the expiration of the existing license. All applications for license for this project must be filed by July 31, 2005.

A copy of the Notice of Intent is on file with the Commission and is available for public inspection. This filing may also be viewed on the Web at http://www.ferc.gov using the “RIMS” link—select “Docket #” and follow the instructions (call 202-208-2222 for assistance). A copy is also available for inspection and reproduction at the address in item (h) above.

Linwood A. Watson, Jr.,
Deputy Secretary.

[FR Doc. 02-20287 Filed 8-8-02; 8:45 am]

BILLING CODE 6717-01-P